DEPARTMENT OF COMMERCE

International Trade Administration

[Application No. 84-34A12]

Export Trade Certificate of Review

ACTION: Notice of issuance of an amended Export Trade Certificate of Review for Northwest Fruit Exporters (NFE), Application No. 84-34A12.

SUMMARY: The Secretary of Commerce, through the Office of Trade and Economic Analysis (OTEA), issued an Export Trade Certificate of Review to NFE on January 29, 2024.

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing title III are found at 15 CFR part 325. OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Certified Conduct

NFE Amended Its Certificate as Follows

1. Added the following entity as a Member of the Certificate within the meaning of section 325.2(l) of the Regulations (15 CFR 325.2(l)):

• New Columbia Fruit Packers, LLC, Wenatchee, WA

○ Export Product coverage: fresh apples and fresh sweet cherries.

2. Removed the following companies as Members of the Certificate:

• Columbia Fruit Packers, Inc., Wenatchee, WA

• Frosty Packing Co., LLC, Yakima, WA

• Highland Fruit Growers, Inc., Yakima, WA

• Stadelman Fruit, L.L.C., Zillah/Hood River & Milton-Freewater, WA/OR

3. Changed the names of the following Members of the Certificate:

• Crane & Crane, Inc. (Brewster, WA) changes to Crane Ranch (Brewster, WA)

• Brewster Heights Packing & Orchards, LP (Brewster, WA) changes to Brewster Heights Packing & Orchards, LP dba Gebbers Farms (Brewster, WA)

• Monson Fruit Co. (Selah, WA) changes to Monson Fruit Co., LLC (Selah, WA)

• Roche Fruit, Ltd. (Yakima, WA) changes to Roche Fruit, LLC (Yakima, WA)

4. Changed the Export Product coverage of the following Members of the Certificate:

• Diamond Fruit Growers, Inc. changes Export Product coverage from fresh pears and fresh sweet cherries to fresh pears (dropping fresh sweet cherries).

• FirstFruits Farms, LLC changes Export Product coverage from fresh apples to fresh apples and fresh sweet cherries (adding fresh sweet cherries).

• River Valley Fruit, LLC changes Export Product coverage from fresh apples, fresh sweet cherries and fresh pears to fresh apples and fresh sweet cherries (dropping fresh pears).

List of Members, as Amended

1. Allan Bros., Naches, WA

2. AltaFresh L.L.C. dba Chelan Fresh Marketing, Chelan, WA

3. Apple House Warehouse & Storage, Inc., Brewster, WA

4. Apple King, L.L.C., Yakima, WA

5. Auvil Fruit Co., Inc. dba Gee Whiz II, LLC, Orondo, WA

6. Baker Produce, Inc., Kennewick, WA

7. Blue Bird, Inc., Peshastin, WA

8. Blue Star Growers, Inc., Cashmere, WA

9. Borton & Sons, Inc., Yakima, WA

10. Brewster Heights Packing & Orchards, LP dba Gebbers Farms, Brewster, WA

11. Chelan Fruit, Chelan, WA

12. Chiawana, Inc. dba Columbia Reach Pack, Yakima, WA

13. Chuy's Cherries LLC, Mattawa, WA

14. CMI Orchards LLC, Wenatchee, WA

15. Columbia Fresh Packing LLC, Kennewick, WA

16. Columbia Valley Fruit, L.L.C., Yakima, WA

17. Congdon Packing Co. L.L.C., Yakima, WA

18. Cowiche Growers, Inc., Cowiche, WA

19. CPC International Apple Company, Tieton, WA

20. Crane Ranch, Brewster, WA

21. Custom Apple Packers, Inc., Quincy, and Wenatchee, WA

22. Diamond Fruit Growers, Inc., Odell, OR (for fresh pears only)

23. Domex Superfresh Growers LLC, Yakima, WA

24. Douglas Fruit Company, Inc., Pasco, WA

25. Dovex Export Company, Wenatchee, WA

26. Duckwall Fruit, Odell, OR

27. E. Brown & Sons, Inc., Milton-Freewater, OR

28. Evans Fruit Co., Inc., Yakima, WA

29. E.W. Brandt & Sons, Inc., Parker, WA

30. FirstFruits Farms, LLC, Prescott, WA (for fresh apples and fresh sweet cherries)

31. G&G Orchards, Inc., Yakima, WA

32. Gilbert Orchards, Inc., Yakima, WA

33. Hansen Fruit & Cold Storage Co., Inc., Yakima, WA

34. Henggeler Packing Co., Inc., Fruitland, ID

35. HoneyBear Growers LLC, Brewster, WA

36. Honey Bear Tree Fruit Co LLC, Wenatchee, WA

37. Hood River Cherry Company, Hood River, OR

38. JackAss Mt. Ranch, Pasco, WA

39. Jenks Bros Cold Storage & Packing, Royal City, WA

40. Kershaw Fruit & Cold Storage, Co., Yakima, WA

41. L & M Companies, Union Gap, WA

42. Lateral Roots Farm, LLC, Wapato, WA

43. Legacy Fruit Packers LLC, Wapato, WA

44. Manson Growers, Manson, WA

45. Matson Fruit Company, Selah, WA

46. McDougall & Sons, Inc., Wenatchee, WA

47. Monson Fruit Co., LLC, Selah, WA

48. Morgan's of Washington dba Double Diamond Fruit, Quincy, WA

49. New Columbia Fruit Packers, LLC, Wenatchee, WA (for fresh apples and fresh sweet cherries)

50. Northern Fruit Company, Inc., Wenatchee, WA

51. Olympic Fruit Co., Moxee, WA

52. Oneonta Trading Corp., Wenatchee, WA

53. Orchard View Farms, Inc., The Dalles, OR

54. Pacific Coast Cherry Packers, LLC, Yakima, WA

55. Piepel Premium Fruit Packing LLC, East Wenatchee, WA

56. Pine Canyon Growers LLC, Orondo, WA

57. Polehn Farms, Inc., The Dalles, OR

58. Price Cold Storage & Packing Co., Inc., Yakima, WA

59. Quincy Fresh Fruit Co., Quincy, WA

60. Rainier Fruit Company, Selah, WA

61. River Valley Fruit, LLC, Grandview, WA (for fresh apples and fresh sweet cherries only)

62. Roche Fruit, LLC, Yakima, WA

63. Sage Fruit Company, L.L.C., Yakima, WA

64. Smith & Nelson, Inc., Tonasket, WA

65. Stemilt Growers, LLC, Wenatchee, WA

66. Symms Fruit Ranch, Inc., Caldwell, ID

67. The Dalles Fruit Company, LLC, Dallesport, WA

68. Underwood Fruit & Warehouse Co., Bingen, WA

69. Valicoff Fruit Company Inc., Wapato, WA

70. Washington Cherry Growers, Peshastin, WA

71. Washington Fruit & Produce Co., Yakima, WA

72. Western Sweet Cherry Group, LLC, Yakima, WA

73. Whitby Farms, Inc. dba: Farm Boy Fruit Snacks LLC, Mesa, WA

74. WP Packing LLC, Wapato, WA

75. Yakima Fruit & Cold Storage Co., Yakima, WA

76. Zirkle Fruit Company, Selah, WA

The effective date of the amended certificate is October 5, 2023, the date on which NFE's application to amend was deemed submitted.

Dated: February 1, 2024.
Joseph Flynn,
Director, Office of Trade and Economic Analysis, International Trade Administration, U.S. Department of Commerce.

[FR Doc. 2024-02332 Filed 2-5-24; 8:45 am]

BILLING CODE 3510-DR-P